DEPARTMENT OF AGRICULTURE

Submission for OMB Review; Comment Request

November 14, 2017.

The Department of Agriculture has submitted the following information collection requirement(s) to OMB for review and clearance under the Paperwork Reduction Act of 1995, Public Law 104-13. Comments are requested regarding (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding this information collection received by December 18, 2017 will be considered. Written comments should be addressed to: Desk Officer for Agriculture, Office of Information and Regulatory Affairs, Office of Management and Budget (OMB), OIRA_Submission@omb.eop.gov or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Food and Nutrition Service

Title: Summer Meal Study.

OMB Control Number: 0584-NEW.

Summary of Collection: The USDA Summer Food Service Program (SFSP) and the National School Lunch Program Seamless Summer Option (SSO) provide healthy meals and snacks to children through 18 years of age, in low-income areas during summer months when school is not in session. Legislation requires programs participating in the SFSP or SSO to participate in program research and evaluation (Section 305 of the Healthy Hunger Free Kids Act).

Need and Use of the Information: In July 2016, the programs served 3.85 million summer meals to participating children. However, summer meals reach only a small percent of the children receiving free or reduced price meals during the school year. This study will help identify strategies to increase participation in summer meals as well as assess the nutritional quality of the meals served to children.

Description of Respondents: Individuals/Households (112,783); Business-not-for-profit (734) and State, Local & Tribal agencies (1,142).

Number of Respondents: 114,659.

Frequency of Responses: Reporting: Annually.

Total Burden Hours: 215,196.

Ruth Brown,
Departmental Information Collection Clearance Officer.

[FR Doc. 2017-24940 Filed 11-16-17; 8:45 am]

BILLING CODE 3410-30-P